DEPARTMENT OF EDUCATION

Comprehensive School Reform Quality Initiatives

AGENCY: Office of Elementary and Secondary Education, Department of Education.

ACTION: Notice of final priorities.

SUMMARY: The Assistant Secretary announces priorities under the Comprehensive School Reform (CSR) Quality Initiatives program. The Assistant Secretary may use one or more of these priorities for competitions for fiscal year (FY) 2004 and subsequent years' funds. These priorities focus on schools that are in need of improvement, corrective action, or restructuring and on student groups that have been traditionally underserved, such as students with disabilities, limited English proficient students, and students in rural areas.

EFFECTIVE DATE: These priorities are effective March 7, 2005.

FOR FURTHER INFORMATION CONTACT: Sheila Sjolseth, U.S. Department of Education, OESE/AITQ, 400 Maryland Ave, SW., FB-6, room 3W237, Washington, DC 20202-6200. Telephone: (202) 260-5619 or by e-mail at compreform@ed.gov or by the Internet at the following Web site: http://www.ed.gov/programs/qualinits/index.html.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: The purpose of the CSR Quality Initiatives program, authorized under section 1608 of the Elementary and Secondary Education Act of 1965, as amended (ESEA), is to provide discretionary grants to support activities that will enhance the State-administered CSR program and to enable schools that have been identified as in need of improvement, corrective action, or restructuring under Part A of Title I of the ESEA to meet their State's definition of adequate yearly progress (AYP). Under this program, the Assistant Secretary awards funds to support two specific categories of activities. Grantees under Category 1 will assist States, local educational agencies (LEAs), and schools in making informed decisions regarding approving or selecting providers of comprehensive school reform or in developing comprehensive school reforms. Category 2 projects will foster the development of comprehensive school reform models and support development of capacity for comprehensive school reform providers to expand their work in more schools and ensure quality.

We published a notice of proposed priorities for this program in the Federal Register on December 1, 2004. (69 FR 69898). In the notice we proposed four priorities—two priorities specific to Category 1 applications, one priority specific to Category 2 applications, and one priority for both Category 1 and Category 2 applications. Except for a change in the priority for Category 2 applications to clarify the intent of the priority, and other technical changes, there are no differences between the notice of proposed priorities and this notice of final priorities.

Analysis of Comments and Changes

In response to our invitation in the notice of proposed priorities, one party submitted comments on the proposed priorities. This commenter suggested that there be no matching requirement for Category 1 applicants. However, section 1608(1) of the ESEA requires a match for Category 1 applications, and we believe that a 10 percent match, which may include in-kind contributions, is reasonable. Accordingly, we have not made a change to this matching requirement.

Note: This notice does not solicit applications. In any year in which we choose to use one or more of these priorities, we invite applications through a notice in the Federal Register. When inviting applications we designate each priority as absolute, competitive preference, or invitational. The effect of each type of priority follows.

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority for Category 1 Applicants

The grantee will provide assistance to States, LEAs, and schools in approving or selecting a comprehensive school reform provider or in developing comprehensive school reforms, for schools that are identified as being in need of improvement, corrective action, or restructuring under section 1116 of the Elementary and Secondary Education Act of 1965, as amended. The applicant will provide a plan for providing States, LEAs and schools with information tools and technical assistance in such areas as using data to identify the instructional needs of students and to clarify the technical assistance and professional development needs of teachers and administrators.

Priority for Category 1 Applicants

The applicant must demonstrate, in its grant application, that its CSR Quality Initiatives award will be matched with funds from one or more private organizations. For each year that a grantee receives a CSR Quality Initiatives award, the match, including any in-kind contributions, must total at least 10 percent of the award.

Priority for Category 2 Applicants

The applicant will implement activities to develop and field-test specific strategies to: (1) Meet the needs of students who have been traditionally underserved by comprehensive reform providers, such as students with disabilities and students with limited English proficiency and to integrate those strategies into scientifically research-based comprehensive school reforms, or (2) increase the capacity of comprehensive reform providers to serve students in rural areas. These strategies could be additions or enhancements to existing CSR models or services already being provided.

Priority for Category 1 and 2 Applicants

The grantee will assist LEAs in more than one State.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently to provide the most benefits for the greatest number of students.

In assessing the potential costs and benefits—both quantitative and qualitative—of this notice of final priorities, we have determined that the benefits of the proposed priorities justify the costs.

We have also determined that this regulatory action does not unduly interfere with State, local and tribal governments in the exercise of their governmental functions.

We summarized the costs and benefits in the notice of proposed priorities.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the following site: http://www.ed.gov/programs/qualinits/index.html.

Note: The official version of this document is the document published in the Federal Register. Free Internet access to the official edition of the Federal Register and the Code of Federal Regulations is available on GPO Access at: http://www.gpoaccess.gov/nara/index.html.

Program Authority: 20 U.S.C. 6518.

Dated: February 1, 2005.
(Catalog of Federal Domestic Assistance Number 84.322B Comprehensive School Reform—Quality Initiatives)
Raymond Simon,
Assistant Secretary for Elementary and Secondary Education.

[FR Doc. E5-438 Filed 2-3-05; 8:45 am]

BILLING CODE 4000-01-P